DEPARTMENT OF LABOR

[Docket No. OSHA-2020-0010]

Occupational Safety and Health Administration Maritime Advisory Committee on Occupational Safety and Health (MACOSH): Notice of Meeting

AGENCY: Occupational Safety and Health Administration (OSHA), Labor.

ACTION: Notice of MACOSH meeting.

SUMMARY: The Maritime Advisory Committee on Occupational Safety and Health (MACOSH) will meet March 30, 2021, by teleconference and WebEx.

DATES: MACOSH will meet from 1:00 p.m. to 4:00 p.m., ET, Tuesday, March 30, 2021.

ADDRESSES:

Submission of comments and requests to speak: Submit comments and requests to speak at the MACOSH meeting by March 22, 2021, identified by the docket number for this Federal Register notice (Docket No. OSHA-2020-0010), using the following method:

Electronically: Comments and request to speak, including attachments, must be submitted electronically at: http://www.regulations.gov, the Federal eRulemaking Portal. Follow the online instructions for submitting nominations.

Requests for special accommodations: Submit requests for special accommodations for this MACOSH meeting by March 22, 2021, to Ms. Carla Marcellus, Occupational Safety and Health Administration, Directorate of Standards and Guidance, U.S. Department of Labor; telephone (202) 693-1865; email marcellus.carla@dol.gov.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office for assistance in locating docket submissions.

Instructions: All submissions must include the agency name and the OSHA docket number for this Federal Register notice (Docket No. OSHA-2020-0010). OSHA will place comments and requests to speak, including personal information, in the public docket, which will be available online. Therefore, OSHA cautions interested parties about submitting personal information such as Social Security numbers and birthdates.

FOR FURTHER INFORMATION CONTACT:

For press inquiries: Mr. Frank Meilinger, Director, OSHA Office of Communications, U.S. Department of Labor; telephone (202) 693-1999; email meilinger.francis2@dol.gov.

For general information about MACOSH: Ms. Amy Wangdahl, Director, Office of Maritime and Agriculture, OSHA, U.S. Department of Labor; telephone (202) 693-2066; email: wangdahl.amy@dol.gov.

Telecommunication requirements: For additional information about the telecommunication requirements for the meeting, please contact Ms. Carla Marcellus, Directorate of Standards and Guidance, OSHA, U.S. Department of Labor; telephone (202) 693-1865; email marcellus.carla@dol.gov.

For copies of this Federal Register Notice: Electronic copies of this Federal Register notice are available at http://www.regulations.gov. This notice, as well as news releases and other relevant information, are also available at OSHA's web page at www.osha.gov.

SUPPLEMENTARY INFORMATION: Attendance at this MACOSH meeting will be by teleconference and WebEx only. The dial-in number and passcode are as follows: Dial-in number: 1-888-946-6302; Passcode: 5047691. The workgroups will discuss protecting workers when working in confined spaces, the role of shipyard competent persons, reefer safety, the update/expansion of OSHA maritime safety training, and the protection of workers from heat stress and hydrogen sulfide. The tentative agenda for the full Committee will include an update from OSHA's Office of the Assistant Secretary and reports from the Longshoring and Shipyard workgroups.

Authority and Signature

Amanda L. Edens, Deputy Assistant Secretary of Labor for Occupational Safety and Health, authorized the preparation of this notice under the authority granted by 29 U.S.C. 655(b)(1) and 656(d), 5 U.S.C. App. 2, Secretary of Labor's Order No. 8-2020 (85 FR 58383), and 29 CFR part 1912.

Signed at Washington, DC, on March 8, 2021.
Amanda L. Edens,
Deputy Assistant Secretary of Labor for Occupational Safety and Health.

[FR Doc. 2021-05267 Filed 3-12-21; 8:45 am]

BILLING CODE 4510-26-P